DEPARTMENT OF ENERGY

10 CFR Part 430

[EERE-2014-BT-STD-0005]

RIN 1904-AF57

Energy Conservation Program: Energy Conservation Standards for Consumer Conventional Cooking Products

AGENCY: Office of Energy Efficiency and Renewable Energy, Department of Energy.

ACTION: Publication of determination.

SUMMARY: The Energy Policy and Conservation Act of 1975 (EPCA), as amended, requires that the U.S. Department of Justice (DOJ) make a determination on the impact, if any, of any lessening of competition likely to result from an energy conservation standard and that the U.S. Department of Energy (DOE) publish such determination in the Federal Register. DOE published a direct final rule and accompanying notice of proposed rulemaking for consumer conventional cooking products on February 14, 2024. In accordance with EPCA, DOE is publishing DOJ's determination of the impact, if any, the energy conservation standards for consumer conventional cooking products will have on competition.

DATES: The DOJ determination is dated April 9, 2024.

FOR FURTHER INFORMATION CONTACT:

Dr. Carl Shapiro, U.S. Department of Energy, Office of Energy Efficiency and Renewable Energy, Building Technologies Office, EE-5B, 1000 Independence Avenue SW, Washington, DC 20585-0121. Telephone: (202) 287-5649. Email: ApplianceStandardsQuestions@ee.doe.gov.

Mr. Pete Cochran, U.S. Department of Energy, Office of the General Counsel, GC-33, 1000 Independence Avenue SW, Washington, DC 20585-0121. Telephone: (240) 961-1189. Email: Peter.Cochran@hq.doe.gov.

SUPPLEMENTARY INFORMATION: On February 14, 2024, DOE published a direct final rule (89 FR 11434) and accompanying notice of proposed rulemaking (89 FR 11548) for consumer conventional cooking products. The Energy Conservation and Policy Act of 1975 (42 U.S.C. 6291, et seq.; “EPCA”), as amended, requires that DOJ make a determination of the impact, if any, of any lessening of competition likely to result from an energy conservation standard. (42 U.S.C. 6295(o)(2)(B)(ii)) EPCA also requires that DOE publish the determination in the Federal Register. Id.

On April 9, 2024, DOJ sent DOE a determination that the energy conservation standards for consumer conventional cooking products are unlikely to have a significant adverse impact on competition. DOE is publishing DOJ's determination at the end of this document.

Signing Authority

This document of the Department of Energy was signed on October 10, 2024, by Jeffrey Marootian, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 15, 2024.
Treena V. Garrett,
Federal Register Liaison Officer, U.S. Department of Energy.

Note: The following appendix will not appear in the Code of Federal Regulations.

Appendix A

April 9, 2024

Ami Grace-Tardy

Assistant General Counsel for

Legislation, Regulation and Energy Efficiency

U.S. Department of Energy

Washington, DC 20585

Ami.Grace-Tardy@hq.doe.gov

Re: Consumer Conventional Cooking Products Energy Conservation Standards

DOE Docket No. EERE-2014-BT-STD-0005

Dear Assistant General Counsel Grace-Tardy:

I am responding to your February 16, 2024, letter seeking the views of the Attorney General about the potential impact on competition of proposed energy conservation standards for consumer conventional cooking products.

Your request was submitted under Section 325(o)(2)(B)(i)(V) of the Energy Policy and Conservation Act, as amended (ECPA), 42 U.S.C. 6295(o)(2)(B)(i)(V), which requires the Attorney General to determine the impact of any lessening of competition that is likely to result from the imposition of proposed energy conservation standards. The Attorney General's responsibility for responding to requests from other departments about the effect of a program on competition has been delegated to the Assistant Attorney General for the Antitrust Division in 28 CFR 0.40(g). The Assistant Attorney General for the Antitrust Division has authorized me, as the Policy Director for the Antitrust Division, to provide the Antitrust Division's views regarding the potential impact on competition of proposed energy conservation standards on his behalf.

In conducting its analysis, the Antitrust Division examines whether a proposed standard may lessen competition, for example, by substantially limiting consumer choice, by placing certain manufacturers at an unjustified competitive disadvantage, or by inducing avoidable inefficiencies in production or distribution of particular products. A lessening of competition could result in higher prices to manufacturers and consumers.

We have reviewed the proposed standards contained in the direct final rulemaking, the notice of proposed rulemaking (89 FR 11548, February 14, 2024) and the related Technical Support Documents. We have also reviewed public comments and information provided by industry participants.

Based on this review, our conclusion is that the proposed energy conservation standards for consumer conventional cooking products are unlikely to have a significant adverse impact on competition.

Sincerely,

/s/

David G.B. Lawrence,

Policy Director.

[FR Doc. 2024-24158 Filed 10-18-24; 8:45 am]

BILLING CODE 6450-01-P